DEPARTMENT OF TRANSPORTATION

National Highway Traffic Safety Administration

Petition for Exemption From the Vehicle Theft Prevention Standard; Mercedes-Benz

AGENCY: National Highway Traffic Safety Administration (NHTSA) Department of Transportation (DOT).

ACTION: Grant of petition for exemption.

SUMMARY: This document grants in full the petition of Mercedes-Benz USA, LLC., (MBUSA) in accordance with § 543.9(c)(2) of 49 CFR Part 543, Exemption from the Theft Prevention Standard, for the S-Line Chassis vehicle line. This petition is granted because the agency has determined that the antitheft device to be placed on the line as standard equipment is likely to be as effective in reducing and deterring motor vehicle theft as compliance with the parts-marking requirements of the Theft Prevention Standard. MBUSA requested confidential treatment for some of the information and attachments it submitted in support of its petition. In a letter dated August 29, 2005, the agency granted the petitioner's request for confidential treatment of most aspects of its petition.

DATES: The exemption granted by this notice is effective beginning with the 2007 model year.

FOR FURTHER INFORMATION CONTACT: Ms. Rosalind Proctor, Office of International Policy, Fuel Economy and Consumer Programs, NHTSA, 400 Seventh Street, SW., Washington, DC 20590. Ms. Proctor's telephone number is (202) 366-0846. Her fax number is (202) 493-2290.

SUPPLEMENTARY INFORMATION: In a petition dated August 8, 2005, MBUSA requested exemption from the parts-marking requirements of the theft prevention standard (49 CFR Part 541) for the MY 2007 S-Line Chassis vehicle line. The petition requested exemption from parts-marking pursuant to 49 CFR Part 543, Exemption from Vehicle Theft Prevention Standard, based on the installation of an antitheft device as standard equipment for an entire vehicle line.

Under § 543.5(a), a manufacturer may petition NHTSA to grant exemptions for one line of its vehicle lines per year. In its petition, MBUSA provided a detailed description and diagram of the identity, design, and location of the components of the antitheft device for the new vehicle line. MBUSA will install its passive, antitheft device as standard equipment beginning with MY 2007. Features of the antitheft device will include an electronic key and ignition lock, an intelligent gearshift module, a passive immobilizer and a visible and audible alarm. MBUSA's submission is considered a complete petition as required by 49 CFR 543.7, in that it meets the general requirements contained in § 543.5 and the specific content requirements of § 543.6.

MBUSA stated that the proposed device will utilize a transmitter key, an electronic ignition starter control unit and an engine control unit, which will collectively work to perform the immobilizer function. The immobilizer will prevent the engine from running unless a valid key is used. Immobilization is activated when the key is removed from the ignition switch. Once activated, a valid, coded-key must be inserted into the ignition switch to disable immobilization and permit starting of the vehicle.

In addressing the specific content requirements of § 543.6, MBUSA provided information on the reliability and durability of its proposed device. To ensure reliability and durability of the device, and to validate the performance of the device under extreme conditions, MBUSA conducted various tests based on its own internal specifications. MBUSA provided information on the tests conducted and believes that the device is reliable and durable since the device complied with its specified requirements for each test. Specifically, the components of the immobilizer device were tested in various climatic, mechanical, electrical, and chemical environments and immunity to various electromagnetic radiation.

MBUSA also compared the proposed device to other devices which NHTSA has determined to be as effective in reducing and deterring motor vehicle theft as would compliance with the parts-marking requirements. MBUSA stated that its proposed device is functionally equivalent to the systems used in previous vehicle lines which were deemed effective and granted exemptions from the parts-marking requirements of the theft prevention standard. Theft data have indicated a decline in theft rates for the S-Line Chassis vehicles that have been equipped with antitheft devices similar to that which MBUSA proposes to install on the new line. Specifically, MBUSA notes that the theft rate for the S-Line Chassis vehicle line was initially reduced by 39.5% from 4.65 stolen vehicles per thousand produced in CY 1999 to 2.86 stolen vehicles per thousand produced in CY 2000. MBUSA believes that the effectiveness of the immobilizer device is reflected in the theft rates that were further reduced to 2.73 stolen vehicles per thousand produced in CY 2001, 1.97 stolen vehicles per thousand vehicles produced in CY 2002, and 1.93 stolen vehicles per thousand vehicles produced in CY 2003.

On the basis of this comparison, MBUSA has concluded that the antitheft device proposed for its vehicle line is no less effective than those devices in the lines for which NHTSA has already granted full exemption from the parts-marking requirements.

Based on the evidence submitted by MBUSA, the agency believes that the antitheft device for the S-Line Chassis vehicle line is likely to be as effective in reducing and deterring motor vehicle theft as compliance with the parts-marking requirements of the Theft Prevention Standard (49 CFR Part 541).

The agency concludes that the device will provide the five types of performance listed in § 543.6(a)(3): promoting activation; attracting attention to the efforts of unauthorized persons to enter or operate a vehicle by means other than a key; preventing defeat or circumvention of the device by unauthorized persons; preventing operation of the vehicle by unauthorized entrants; and ensuring the reliability and durability of the device.

As required by 49 U.S.C. 33106 and 49 CFR 543.6 (a)(4) and (5), the agency finds that MBUSA has provided adequate reasons for its belief that the antitheft device will reduce and deter theft. This conclusion is based on the information MBUSA provided about its device, much of which is confidential.

For the foregoing reasons, the agency hereby grants in full MBUSA's petition for exemption for the vehicle line from the parts-marking requirements of 49 CFR part 541. The agency notes that 49 CFR part 541, Appendix A-1, identifies those lines that are exempted from the Theft Prevention Standard for a given model year. 49 CFR 543.7(f) contains publication requirements incident to the disposition of all part 543 petitions. Advanced listing, including the release of future product nameplates, is necessary in order to notify law enforcement agencies of new vehicle lines exempted from the parts marking requirements of the Theft Prevention Standard. Therefore, although MBUSA has been granted confidential treatment for most aspects of its petition, the agency notes that the information that may be published in the Federal Register includes the make and model of vehicle, the model year for which the exemption is granted and a general description of the proposed antitheft device, with a mention of such elements as key activation, starter motor interrupt, and the general location of the sensors triggering the alarm.

If MBUSA decides not to use the exemption for this line, it must formally notify the agency, and, thereafter, the line must be fully marked as required by 49 CFR 541.5 and 541.6 (marking of major component parts and replacement parts).

NHTSA notes that if MBUSA wishes in the future to modify the device on which this exemption is based, the company may have to submit a petition to modify the exemption. Section 543.7(d) states that a part 543 exemption applies only to vehicles that belong to a line exempted under this part and equipped with the anti-theft device on which the line's exemption is based. Further, § 543.9(c)(2) provides for the submission of petitions “to modify an exemption to permit the use of an antitheft device similar to but differing from the one specified in that exemption.”

The agency wishes to minimize the administrative burden that part 543.9(c)(2) could place on exempted vehicle manufacturers and itself. The agency did not intend part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: January 4, 2006.
Stephen R. Kratzke,
Associate Administrator for Rulemaking.

[FR Doc. E6-146 Filed 1-10-06; 8:45 am]

BILLING CODE 4910-59-P